DEPARTMENT OF HOMELAND SECURITY

Federal Emergency Management Agency

44 CFR Part 67

[Docket No. FEMA-B-7758]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before April 15, 2008.

ADDRESSES: The corresponding preliminary Flood Insurance Rate Map (FIRM) for the proposed BFEs for each community are available for inspection at the community's map repository. The respective addresses are listed in the table below.

You may submit comments, identified by Docket No. FEMA-B-7758, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | * Elevation in feet (NGVD) + Elevation in feet (NAVD) # Depth in feet above ground: Existing | * Elevation in feet (NGVD) + Elevation in feet (NAVD) # Depth in feet above ground: Modified
City of Warren, Ohio
Ohio | City of Warren | Duck Creek | Mouth at Mahoning River | None | +891
|  |  | About 600 feet downstream of Risher St | None | +891
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed
.
Send comments to William R. Blanton, Jr., Chief, Engineering Management Branch, Mitigation Directorate, Federal Emergency Management Agency, 500 C Street SW., Washington, DC 20472.
ADDRESSES
City of Warren
Maps are available for inspection at 540 Laird Avenue SE, Warren, OH 44484.

Flooding source(s) | Location of referenced elevation ** | * Elevation in (NGVD) + Elevation in feet (NAVD) # Depth in feet above ground: Effective | * Elevation in (NGVD) + Elevation in feet (NAVD) # Depth in feet above ground: Modified | Communities affected
Randall County, Texas, and Incorporated Areas
Palo Duro Creek | Confluence with Prairie Dog Town Fork of Red River | *3482 | +3484 | Unincorporated Areas of Randall County.
| Intersection with West Country Club Road | *3560 | +3562
Playa Lake 11 | Approximately 500 feet south of the intersection of Bell St. and Attebury Dr | None | +3646 | City of Amarillo, Unincorporated Areas of Randall County.
Playa Lake 13 | Approximately 2500 feet southeast of the intersection of West 335 South LP and Valleyview Drive | None | +3626 | City of Amarillo, Unincorporated Areas of Randall County.
Playa Lake 14 | Approximately 100 feet south of Winners Circle | *3657 | +3658 | City of Amarillo.
Playa Lake 16 | Approximately 350 feet south of S. Hayden and SW 48th Ave. intersection | *3625 | +3627 | City of Amarillo.
Playa Lake 18 | Approximately 1000 feet south of Farmers Ave. and Tradewind St | None | +3583 | Unincorporated Areas of Randall County.
Playa Lake 19 | Approximately 1200 feet east of SW 42nd Ave. and S. Harrison St. intersection | *3633 | +3635 | City of Amarillo.
Playa Lake 20 (Gooch Lake) | Approximately 5000 ft. south of SE 34th Ave. and S. Manhattan St. intersection | *3574 | +3579 | City of Amarillo.
Playa Lake 3 | Approximately 1000 feet north of Ascension Parkway | None | +3710 | Unincorporated Areas of Randall County.
Playa Lake 34 | Approximately 4600 feet southwest of Highway 287 and S. Parsley Rd. intersection | None | +3553 | Unincorporated Areas of Randall County.
Playa Lake 4 | W CR 58 and Helium Road | None | +3699 | Unincorporated Areas of Randall County.
Playa Lake 5 (McDonald Lake) | Approximately 1100 feet southeast of S. Coulter St. and SW 45th St. intersection | *3688 | +3687 | City of Amarillo.
Playa Lake 7 | Approximately 100 feet north of W. 77th Ave. and Cody Dr | None | +3675 | City of Amarillo, Unincorporated Areas of Randall County.
Playa Lake 8 | Approximately 100 feet south of FM 2186 and 335 South LP | None | +3681 | City of Amarillo, Unincorporated Areas of Randall County.
Playa Lake 9 | Approximately 480 feet north of W. Sundown St. and Elaine St. interesection | None | +3683 | Unincorporated Areas of Randall County.
Prairie Dog Town Fork of Red River | Approximately 100 feet downstream from the intersection of Exmoor Road and Canyon Creek Road | *3394 | +3395 | Unincorporated Areas of Randall County, Village of Lake.
| Confluence with Tierra Blanca Creek | *3482 | +3484 | Tanglewood, Village of Palisades.
Tierra Blanca Creek | Confluence with Palo Duro Creek | *3482 | +3484 | City of Canyon, Unincorporated Areas of Randall County.
| Approximately 1500 feet downstream from Gordon Cummings Road | *3545 | +3547
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Wasington, DC 20472.
ADDRESSES
City of Amarillo
Maps are available for inspection at 509 E. 7th Ave., Amarillo, TX 79105.
City of Canyon
Maps are available for inspection at 301 16th St., Canyon, TX 79015.
Unincorporated Areas of Randall County
Maps are available for inspection at 301 Hwy. 60, Canyon, TX 79015.
Village of Lake Tanglewood
Maps are available for inspection at 1000 Tanglewood Dr., Amarillo, TX 79118.
Village of Palisades
Maps are available for inspection at 115 Brentwood, Amarillo, TX 79118.
Brown County, Wisconsin, and Incorporated Areas
Ash Street Tributary to Lancaster Creek | Approximately 510 feet downstream of Ash Street | None | +602 | Village of Howard.
| Approximately 160 feet upstream of Ash Street | None | +608
Ashwaubenon Creek | Approximately 2,990 feet downstream of Memorial Park Road | +585 | +586 | Unincorporated Areas of Brown County, City of De Pere, Village of Ashwaubenon.
| Approximately 3,940 feet upstream of Scheuring Road | None | +613
Ashwaubenon Creek (Middle) | Approximately 3,980 feet downstream of Creamery Road | None | +618 | Unincorporated Areas of Brown County, City of De Pere.
| Approximately 8,085 feet upstream of Creamery Road | None | +629
Ashwaubenon Creek (Upper) | Approximately 240 feet downstream of William Grant Drive | None | +652 | Unincorporated Areas of Brown County.
| Approximately 185 feet upstream of William Grant Drive | None | +661
Baird Creek | Approximately 425 feet upstream of U.S. Route 141 | +590 | +589 | Unincorporated Areas of Brown County, City of Green Bay.
| Just upstream of Northview Road | None | +778
Tributary | Approximately 6,340 feet downstream of Erie Road | None | +701 | City of Green Bay.
| Approximately 1,465 feet upstream of Finger Road | None | +778
Tributary 6 | Approximately 450 feet downstream of Fox Valley and Western Railroad | None | +619 | City of Green Bay.
| Approximately 910 feet upstream of Fox Valley and Western Railroad | None | +673
Bakers Creek | Approximately 155 feet downstream of Belmont Road | None | +649 | Village of Howard.
| Approximately 940 feet upstream of Hillcrest Heights Road | None | +658
Tributary | Approximately 125 feet upstream of railroad | None | +603 | Village of Howard.
| Approximately 2,325 feet upstream of railroad | None | +617
Barina Creek | Approximately 320 feet downstream of Church Road | None | +613 | City of Green Bay.
| Approximately 2,000 feet upstream of Church Road | None | +621
Beaver Dam Creek | Approximately 420 feet downstream of Velp Avenue | +586 | +588 | Village of Howard, City of Green Bay, Oneida Tribe.
| Approximately 1,400 feet upstream of Packerland Drive | None | +677
Bower Creek | At the confluence with the East River | None | +591 | Village of Bellevue, Town of Ledgeview.
| Approximately 10,570 feet upstream of Lime Kiln Road | None | +635
Tributary | Approximately 396 feet downstream of Pine Grove Road | None | +827 | Unincorporated Areas of Brown County, Town of Ledgeview.
| Approximately 52 feet upstream of Dickinson Road | None | +833
Tributary 1 | Approximately 40 feet downstream of Monroe Road | None | +591 | Village of Bellevue, Town of Ledgeview.
| Approximately 4,610 feet upstream of Bower Creek Road | None | +618
Tributary 2 | Approximately 110 feet downstream of Bower Creek Road | None | +595 | Village of Bellevue, Town of Ledgeview.
| Approximately 3,260 feet upstream of Meadow Sound Drive | None | +733
Tributary A | Approximately 860 feet downstream of its confluence with Bower Creek Tributary B | None | +604 | Village of Bellevue, Town of Ledgeview.
| Approximately 4,465 feet upstream of its confluence with Bower Creek Tributary B | None | +639
Tributary B | At the confluence with Bower Creek Tributary A | None | +606 | Village of Bellevue, Town of Ledgeview.
| Approximately 2,420 feet upstream of its confluence with Bower Creek Tributary A | None | +630
Branch River | Approximately 400 feet downstream of Park Road | +844 | +845 | Unincorporated Areas of Brown County.
| Approximately 3,960 feet upstream of Park Road | +853 | +852
Branch of Plum Creek | Approximately 610 feet upstream of Holland Court | None | +765 | Unincorporated Areas of Brown County.
| Approximately 1,245 feet upstream of Holland Court | None | +766
Lower Tributary | At the confluence with Branch of Plum Creek | None | +766 | Unincorporated Areas of Brown County.
| Approximately 1,590 feet upstream of its confluence with Branch of Plum Creek | None | +773
Upper Tributary | At the confluence with Branch of Plum Creek | None | +765 | Unincorporated Areas of Brown County.
| Approximately 1,190 feet upstream of its confluence with Branch of Plum Creek | None | +769
Duck Creek | Approximately 90 feet downstream of State Highway 41 | +585 | +586 | Village of Howard, City of Green Bay, Oneida Tribe, Village of Hobart.
| Approximately 4,825 feet upstream of State Highway 54 | +675 | +676
Tributary 11 | At the confluence with Duck Creek | None | +606 | City of Green Bay, Oneida Tribe.
| Approximately 1,000 feet upstream of Open Gate Trail | None | +673
Tributary 12 | Approximately 925 feet downstream of West Mason Street | None | +630 | City of Green Bay, Oneida Tribe, Village of Hobart.
| Approximately 1,900 feet upstream of West Mason Street | None | +677
Dutchman Creek | Approximately 1,000 feet downstream of Broadway Street | +585 | +586 | Village of Ashwaubenon, Oneida Tribe, Village of Hobart.
| Approximately 1,950 feet upstream of Packerland Drive | None | +651
North Tributary | Approximately 90 feet downstream of U.S. Highway 41 | None | +605 | Village of Ashwaubenon.
| Approximately 120 feet upstream of North Road | None | +677
South Tributary | Approximately 1,095 feet downstream of Parkview Road | None | +611 | Village of Ashwaubenon.
| Approximately 1,845 feet upstream of Glory Road | None | +624
Southeast Tributary | Approximately 1,350 feet downstream of Main Avenue | None | +623 | Village of Ashwaubenon.
| Approximately 5,550 feet upstream of Main Avenue | None | +637
Southwest Tributary | Approximately 1,350 feet downstream of Main Street | None | +624 | Village of Ashwaubenon, Unincorporated Areas of Brown County.
| Approximately 5,350 feet upstream of County Highway G | None | +637
East River | Approximately 1,650 feet downstream of North Monroe Avenue | +585 | +586 | City of Green Bay, City of De Pere, Town of Ledgeview, Unincorporated Areas of Brown County, Village of Allouez, Village of Bellevue.
| Just upstream of Wrightstown Road | None | +631
Tributary | Approximately 60 feet downstream of Monroe Road | None | +589 | Town of Ledgeview.
| Approximately 65 feet upstream of Dickinson Road | None | +595
Tributary A | Approximately 990 feet downstream of Dickinson Road | +591 | +592 | Town of Ledgeview, City of De Pere.
| Approximately 670 feet upstream of Heritage Road | None | +613
Tributary B | At the confluence with East River Tributary A | +591 | +592 | Town of Ledgeview.
| Approximately 1,825 feet upstream of its confluence with East River Tributary A | +591 | +595
East Verlin North Tributary to Willow Creek | At the confluence with East Verlin Tributary to Willow Creek | None | +606 | Village of Bellevue.
| Approximately 15 feet upstream of Fox Valley and Western Railroad | None | +606
East Verlin Tributary to Willow Creek | At the confluence with Willow Creek | None | +591 | Village of Bellevue, City of Green Bay.
| Approximately 2,900 feet upstream of Lime Kiln Road | None | +622
Ellis Creek | Approximately 2,625 feet downstream of Edgewood Drive | None | +651 | City of Green Bay.
| Approximately 1,105 feet upstream of Edgewood Drive | None | +670
Fox River | Approximately 2,500 feet downstream of Interstate 43 | +585 | +583 | City of Green Bay, City of De Pere, Town of Ledgeview, Unincorporated Areas of Brown County, Village of Allouez, Village of Ashwaubenon, Village of Wrightstown.
| Just downstream of State Highway 96 | +602 | +601
Lancaster Creek | Approximately 20 feet downstream of Riverview Drive | +585 | +586 | Village of Howard.
| Approximately 3,980 feet upstream of Shawano Avenue | +618 | +623
Tributary | Just upstream of Rockwell Road | None | +618 | Village of Howard.
| Approximately 1,775 feet upstream of Rockwell Road | None | +630
Mahon Creek | Approximately 1,125 feet downstream of Nicolet Drive | None | +586 | City of Green Bay.
| Approximately 1,485 feet upstream of Spartan Road | None | +775
Middle Branch of Little Suamico River | Approximately 40 feet downstream of Summit Street | None | +795 | Village of Pulaski.
| Approximately 100 feet upstream of Lincoln Street | +806 | +807
North Branch Ashwaubenon Creek | At the confluence with South Branch Ashwaubenon Creek | None | +661 | Unincorporated Areas of Brown County, Oneida Tribe, Village of Hobart.
| Just downstream of North County Line Road | None | +681
Bakers Creek | At the confluence with Bakers Creek | None | +655 | Village of Howard.
| Approximately 2,020 feet upstream of its confluence with Bakers Creek | None | +665
Willow Creek | Approximately 175 feet downstream of Main Street | None | +629 | Village of Bellevue, City of Green Bay.
| Approximately 9,680 feet upstream of Manitowoc Road | None | +736
North Tributary South Branch Ashwaubenon Creek | At the confluence with South Branch Ashwaubenon Creek | None | +664 | Unincorporated Areas of Brown County.
| Approximately 2,200 feet from the confluence of South Branch Ashwaubenon Creek | None | +675
Oneida Creek | Approximately 1,270 feet downstream of Country Club Court | None | +596 | City of Green Bay, Oneida Tribe.
| Approximately 4,755 feet upstream of Country Club Court | None | +640
Pioneer Tributary to Duck Creek | Approximately 895 feet downstream of Cardinal Lane | None | +591 | Village of Howard.
| Approximately 150 feet upstream of Cardinal Lane | None | +596
Plum Creek | Approximately 675 feet downstream of Washington Street | None | +602 | Village of Wrightstown, Unincorporated Areas of Brown County.
| Approximately 11,250 feet upstream of Washington Street | +619 | +618
Sorensons Creek | At the confluence with Spring Creek | None | +602 | Village of Bellevue, Town of Ledgeview.
| Approximately 80 feet upstream of Big Creek Road | None | +683
Tributary | Approximately 4,720 feet downstream of Santa Monica Drive | None | +644 | Village of Bellevue.
| Approximately 3,430 feet upstream of Manitowoc Road | None | +747
South Branch Ashwaubenon Creek | Approximately 3,325 feet downstream of Noah Road | None | +661 | Unincorporated Areas of Brown County.
| Approximately 990 feet upstream of Freedom Road | None | +671
Little Suamico River | Approximately 80 feet downstream of Corporate Way | None | +783 | Village of Pulaski, Unincorporated Areas of Brown County.
| Approximately 1,935 feet upstream of Pelican Drive | None | +799
South Tributary to Willow Creek | At the confluence with Willow Creek | None | +590 | Village of Bellevue.
| Approximately 630 feet upstream of Lime Kiln Road | None | +601
Spring Creek | Approximately 1,305 feet downstream of Lime Kiln Road | None | +595 | Village of Bellevue.
| Approximately 1,520 feet upstream of Willow Road | None | +784
Tributary A | Approximately 950 feet downstream of Madrid Drive | None | +703 | Village of Bellevue.
| Approximately 170 feet upstream of Ontario Road | None | +743
Tributary A Ditch | At the confluence with Spring Creek Tributary A | None | +736 | Village of Bellevue.
| Approximately 580 feet upstream of the confluence with Spring Creek Tributary A | None | +740
Tributary B | Approximately 2,910 feet downstream of Cottage Road | None | +732 | Village of Bellevue.
| Approximately 450 feet upstream of Cottage Road | None | +760
Suamico River | Approximately 7,880 feet downstream of Lakeview Road | +585 | +586 | Village of Suamico.
| Approximately 1,150 feet upstream of Bridge Road | +605 | +606
Tributary 1 to Dutchman Creek Southwest Tributary | Approximately 310 feet downstream of Lost Lane | None | +642 | Village of Ashwaubenon, Oneida Tribe, Village of Hobart.
| Approximately 490 feet upstream of South Packerland Drive | None | +665
Tributary 2 to Dutchman Creek Southwest Tributary | At the confluence with Dutchman Creek Southwest Tributary | None | +642 | Village of Ashwaubenon.
| Approximately 2,550 feet upstream of the confluence with Dutchman Creek Southwest Tributary | None | +666
Tributary 3 to Dutchman Creek Southwest Tributary | At the confluence with Dutchman Creek Southwest Tributary | None | +646 | Village of Ashwaubenon.
| Approximately 1,950 feet upstream of the confluence with Dutchman Creek Southwest Tributary | None | +664
Trout Creek | Approximately 1,060 feet downstream of North Hillcrest Drive | +608 | +610 | Village of Hobart, Oneida Tribe.
| Just upstream of Sunlite Drive | +720 | +727
Unnamed Tributary to Green Bay | Approximately 525 feet downstream of Nicolet Drive | None | +588 | City of Green Bay.
| Approximately 1,755 feet upstream of Nicolet Drive | None | +624
Vanguard Way Tributary to Lancaster Creek | At the confluence with Lancaster Creek | None | +610 | Village of Howard.
| Approximately 755 feet upstream of the confluence with Lancaster Creek | None | +629
West Verlin Tributary to Willow Creek | Approximately 1,220 feet downstream of Bellevue Street | None | +590 | Village of Bellevue, City of Green Bay.
| Approximately 2,990 feet upstream of Verlin Road | None | +597
Willow Creek | At the confluence with the East River | None | +590 | Village of Bellevue, City of Green Bay.
| Approximately 1,740 feet upstream of Ontario Road | None | +760
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of De Pere
Maps are available for inspection at Building Inspection Department, 335 South Broadway, De Pere, WI 54115.
City of Green Bay
Maps are available for inspection at Department of Public Works, Inspection Division, 100 North Jefferson Street, Room 403, Green Bay, WI 54301-5026.
Oneida Tribe
Maps are available for inspection at Village Office, 2990 South Pine Tree Road, Oneida, WI 54155.
Town of Ledgeview
Maps are available for inspection at Building Department, Ledgeview Municipal Building, 3700 Dickinson Road, De Pere, WI 54115.
Unincorporated Areas of Brown County
Maps are available for inspection at Zoning Department, 320 East Walnut, Northern Building, Room 320, Green Bay, WI 54301.
Village of Allouez
Maps are available for inspection at Public Works Department, Municipal Building, 1900 Libal Street, Green Bay, WI 54301-2499.
Village of Ashwaubenon
Maps are available for inspection at Public Works Department, Village Hall, 2155 Holmgren Way, Ashwaubenon, WI 54304.
Village of Bellevue
Maps are available for inspection at Building, Zoning and Development Department, Village Office, 305 East Walnut, Room 320, Green Bay, WI 54311.
Village of Hobart
Maps are available for inspection at Planning Department, Village Office, 2990 South Pine Tree Road, Oneida, WI 54155.
Village of Howard
Maps are available for inspection at Department of Code Administration, Village Hall, 2456 Glendale Avenue, Green Bay, WI 54313.
Village of Pulaski
Maps are available for inspection at Village Clerk's Office, 421 South St. Augustine Street, Pulaski, WI 54162.
Village of Suamico
Maps are available for inspection at Building Inspection Department, Village Hall, 2999 Lakeview Drive, Suamico, WI 54173.
Village of Wrightstown
Maps are available for inspection at Building Inspection Department, Village Hall, 529 Main Street, Wrightstown, WI 54180.

(Catalog of Federal Domestic Assistance No. 97.022, “Flood Insurance.”)

Dated: January 3, 2008.
David I. Maurstad,
Federal Insurance Administrator of the National Flood Insurance Program, Department of Homeland Security, Federal Emergency Management Agency.

[FR Doc. E8-722 Filed 1-15-08; 8:45 am]

BILLING CODE 9110-12-P